DEPARTMENT OF THE INTERIOR

National Park Service

Notice of Inventory Completion: Denver Museum of Nature & Science, Denver, CO

AGENCY: National Park Service, Interior.

ACTION: Notice.

Notice is here given in accordance with the Native American Graves Protection and Repatriation Act (NAGPRA), 25 U.S.C. 3003, of the completion of an inventory of human remains and associated funerary objects in the control of the Denver Museum of Nature & Science, Denver, CO. The human remains and associated funerary objects were removed from Maricopa County, AZ, and an unknown location in Arizona.

This notice is published as part of the National Park Service's administrative responsibilities under NAGPRA, 25 U.S.C. 3003 (d)(3). The determinations in this notice are the sole responsibility of the museum, institution, or Federal agency that has control of the Native American human remains and associated funerary objects. The National Park Service is not responsible for the determinations in this notice.

A detailed assessment of the human remains was made by Denver Museum of Nature & Science professional staff in consultation with the Ak Chin Indian Community of the Maricopa (Ak Chin) Indian Reservation, Arizona; Gila River Indian Community of the Gila River Indian Reservation, Arizona; Hopi Tribe of Arizona; Salt River Pima-Maricopa Indian Community of the Salt River Reservation, Arizona; Tohono O'odham Nation of Arizona; and Zuni Tribe of the Zuni Reservation, New Mexico.

At an unknown date, human remains representing a minimum of two individuals were removed from an unknown location in Arizona. Subsequently, the human remains came into the possession of Walter J. Crawford of Americana Galleries. In 1964, Mary W. A. Crane and Francis V. Crane acquired the human remains from Mr. Crawford. In 1983, the Cranes donated the human remains to the museum (AC.7025A-C and AC.8175A-C). No known individuals were identified. The two associated funerary objects are ceramic burial jars with lids.

The ceramic burial jars are identified as Gila River and Gila Smudged Red styles. The human remains are cremations, which were placed in containers of a type diagnostic of the Hohokam Archaeological Tradition, approximately A.D. 1100-1300.

In 1933, human remains representing a minimum of one individual were removed from a site, later called La Cuidad, on private land in Phoenix, Maricopa County, AZ, by Mrs. Stearit, the landowner, while digging on her property. Subsequently, and by unknown means, Walter J. Crawford of Americana Galleries acquired the human remains. In 1965, Mary W. A. Crane and Francis V. Crane acquired the human remains from Mr. Crawford. In 1983, the Cranes donated the human remains to the museum (AC.9089A-C). No known individual was identified. The one associated funerary object is a ceramic burial jar with a cover pot.

The ceramic burial jar is identified as a diagnostic pottery type of the Hohokam Archaeological Tradition, approximately A.D. 1100-1300.

According to archeological research, common Hohokam funerary practices included cremation, placement of the human remains in ceramic burial jars, and subsequent burial. Museum records and archeological research indicate that the human remains from both sites are Native Americans, ancestral to present-day O'odham, Piman, Hopi, and Zuni cultures. Consultation with tribal representatives of the Pima and Tohono O'odham supports this information. Descendants of the O'odham, Pima, Hopi, and Zuni are members of the Ak Chin Indian Community of the Maricopa (Ak Chin) Indian Reservation, Arizona; Gila River Indian Community of the Gila River Indian Reservation, Arizona; Hopi Tribe of Arizona; Salt River Pima-Maricopa Indian Community of the Salt River Reservation, Arizona; Tohono O'odham Nation of Arizona; and Zuni Tribe of the Zuni Reservation, New Mexico.

Officials of the Denver Museum of Nature & Science have determined that, pursuant to 25 U.S.C. 3001 (9-10), the human remains described above represent the physical remains of three individuals of Native American ancestry. Officials of Denver Museum of Nature & Science also have determined that, pursuant to 25 U.S.C. 3001 (3)(A), the three objects described above are reasonably believed to have been placed with or near individual human remains at the time of death or later as part of the death rite or ceremony. Lastly, officials of the Denver Museum of Nature & Science officials have determined that, pursuant to 25 U.S.C. 3001 (2), there is a relationship of shared group identity that can be reasonably traced between the Native American human remains and associated funerary objects and the Ak Chin Indian Community of the Maricopa (Ak Chin) Indian Reservation, Arizona; Gila River Indian Community of the Gila River Indian Reservation, Arizona; Hopi Tribe of Arizona; Salt River Pima-Maricopa Indian Community of the Salt River Reservation, Arizona; Tohono O'odham Nation of Arizona; and Zuni Tribe of the Zuni Reservation, New Mexico.

Representatives of any other Indian tribe that believes itself to be culturally affiliated with the human remains and associated funerary objects should contact Dr. Chip Colwell-Chanthaphonh, Denver Museum of Nature & Science, 2001 Colorado Boulevard, Denver, CO 80205, telephone (303) 370-6378, before March 26, 2008. Repatriation to the Ak Chin Indian Community of the Maricopa (Ak Chin) Indian Reservation, Arizona; Gila River Indian Community of the Gila River Indian Reservation, Arizona; Hopi Tribe of Arizona; Salt River Pima-Maricopa Indian Community of the Salt River Reservation, Arizona; Tohono O'odham Nation of Arizona; and Zuni Tribe of the Zuni Reservation, New Mexico may proceed after that date if no additional claimants come forward.

The Denver Museum of Nature & Science is responsible for notifying the Ak Chin Indian Community of the Maricopa (Ak Chin) Indian Reservation, Arizona; Gila River Indian Community of the Gila River Indian Reservation, Arizona; Hopi Tribe of Arizona; Salt River Pima-Maricopa Indian Community of the Salt River Reservation, Arizona; Tohono O'odham Nation of Arizona; and Zuni Tribe of the Zuni Reservation, New Mexico that this notice has been published.

Dated: January 3, 2008
Sherry Hutt,
Manager, National NAGPRA Program.

[FR Doc. E8-3455 Filed 2-22-08; 8:45 am]

BILLING CODE 4312-50-S